DEPARTMENT OF THE TREASURY

Bureau of Engraving and Printing

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning the Claim for Amounts Due in the Case of a Deceased Owner of Mutilated Currency.

DATES: Written comments should be received on or before October 8, 2005, to be assured of consideration.

ADDRESSES: Direct all written comments to Department of Treasury, Bureau of Engraving and Printing, Pamela V. Grayson, 14th & C Streets, SW., Washington, DC 20228, (202) 874-2212.

FOR FURTHER INFORMATION CONTACT: Requests for additional information or copies of the form(s) and instructions should be directed to Department of Treasury, Bureau of Engraving and Printing, Lorraine Robinson, 14th & C Streets, SW., Washington, DC 20228, (202) 874-2532.

SUPPLEMENTARY INFORMATION: Title: Claim for Amounts in the Case of a Deceased Owner of Mutilated Currency.

OMB Number: 1520-0002.

Form Number: BEP 5287.

Abstract: Treasury is required to determine ownership in cases of a deceased owner of damaged or mutilated currency.

Type of Review: Reinstatement (without change).

Affected Public: Individuals or households, business or other for-profit/not-for-profit institutions and State, local or tribal government.

Estimated Number of Respondents: 120.

Estimated Total Annual Burden Hours: 110.

Request for Comments: Comments submitted in response to this notice will be summarized and/or included in the request for OMB approval. All comments will become a matter of public record. Written comments should address the accuracy of the burden estimates and ways to minimize burden including the use of automated collection techniques or the use of other forms of information technology, as well as other relevant aspects of the information collection request.

Dated: August 4, 2005.
Pamela V. Grayson,
Management Analyst.

[FR Doc. 05-15687 Filed 8-8-05; 8:45 am]

BILLING CODE 4840-01-P